DEPARTMENT OF TRANSPORTATION

Federal Aviation Administration

14 CFR Part 71

[Docket No. FAA-2025-2282; Airspace Docket No. 25-ANM-131]

RIN 2120-AA66

Modification of Class E Airspace; Newport Municipal Airport, Newport, OR

AGENCY: Federal Aviation Administration (FAA), DOT.

ACTION: Final rule.

SUMMARY: This action modifies the Class E airspace area designated as a surface area (Class E2) and the Class E airspace extending upward from at least 700 feet above the surface (Class E5) at Newport Municipal Airport, Newport, OR, to optimize the containment of instrument flight procedures. This action also makes administrative amendments to the airport's legal descriptions to remove unnecessary references within its text header. These actions support the safety and management of instrument flight rules (IFR) operations at the airport.

DATES: Effective date 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Newport Municipal Airport, Newport, OR.

History

The FAA published an NPRM for Docket No. FAA-2025-2282 in the Federal Register (90 FR 52011; November 19, 2025), proposing to modify Class E airspace at Newport Municipal Airport, Newport, OR. Interested parties were invited to participate in this rulemaking effort by submitting written comments on the proposal to the FAA. One comment was received from the Citizens Rulemaking Alliance that was not germane. Although the commentor addressed the rulemaking process, they commented on the docket as if it were a final rule, specifically referring to the action as such, instead of a proposed action. As such, the deficiencies claimed by the commenter were inaccurate given the actual stage of rulemaking. The FAA has confirmed that all regulatory requirements for this action have been satisfied.

Additionally, the commenter stated, “[i]f the agency relied on the Administrative Procedure Act's good cause exception to waive prior notice and comment,” the agency should “withdraw that reliance and proceed via standard NPRM” or “extend the effective date . . . to allow outreach and operational planning by affected small entities.” The FAA did not waive prior notice and comment for this rulemaking, as evidenced by the comment submitted during the comment window. However, in this final rule, the FAA is making ministerial edits to the affected Class E5 airspace description and has found good cause for not re-circulating the proposal for a second round of public notice and comment, as explained below. In doing so, the FAA thoroughly assessed the changes from the NPRM and the pertinent legal authorities. Moreover, there is no need to delay the rule's effective date for outreach or planning with stakeholders, as the changes do not alter airspace boundaries or operating requirements and therefore would be of no consequence to regulated parties.

Differences From the NPRM

The legal description for the Class E5 airspace as proposed in the NPRM was modified from the NPRM for clarity by replacing the phrase “and clockwise from the airport's 187° bearing to the 318° bearing extending from the 4.6-mile radius to the 6.5-mile arc,” with the phrase “and within an area beginning at the airport's 187° bearing clockwise to its 318° bearing extending from its 4.6-mile radius to its 6.5-mile radius.” Additionally, one instance of the phrase “the airport's” was removed from the Class E2 airspace legal description as proposed in the NPRM and replaced with “its” due to redundancy.

These are ministerial corrections that do not alter airspace boundaries or operating requirements. As such, these administrative edits that do not impact the regulatory scope or requirements are expected to be “inconsequential to the industry and to the public.” See Mack Trucks, Inc. v. EPA, 682 F.3d 87, 94 (D.C. Cir. 2012). Accordingly, the FAA finds good cause, pursuant to 5 U.S.C. 553(b)(B), that recirculating the NPRM for additional notice and comment is unnecessary.

Additionally, while reflected by the proposed amendments to the Class E5 airspace legal description, the FAA unintentionally omitted discussion within the NPRM preamble explaining that the portion of Class E5 airspace extending upward from 1,200 feet above the surface would be removed. The FAA is proceeding with that amendment within this final rule, as explained below. The FAA does not expect concerns from stakeholders given that the change reduces controlled airspace and duplication is provided by other controlled airspace.

Incorporation by Reference

Class E2 and E5 airspace designations are published in paragraphs 6002 and 6005, respectively, of FAA Order JO 7400.11, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying Class E2 and Class E5 airspace at Newport Municipal Airport, Newport, OR.

The Class E2 airspace is modified to expand its radius from 4 to 4.6 miles, add a 0.8-mile extension to the south, and shift the location of its northern extension to more appropriately contain IFR operations at the airport. As the FAA stated in the NPRM, these changes are made to better contain IFR procedures, which are required to be within controlled airspace. The expansion to a 4.6-mile radius better contains the maximum circling maneuvering areas to Runways (RWY) 20 and 34 and would also provide more appropriate containment to departing IFR aircraft until reaching the base of the next adjacent controlled airspace when executing the NEWPORT ONE DEPARTURE (OBSTACLE) RWY 20 procedure. The Class E2 airspace is extended .08 miles south to better contain departing IFR aircraft until reaching the base of the next adjacent controlled airspace when executing the NEWPORT ONE DEPARTURE (OBSTACLE) RWY 16 departure procedure and IFR operations below 1,000 feet above the surface when executing the Area Navigation (RNAV) (Global Positioning System [GPS]) RWY 34 approach procedure. The northern extension is shifted approximately 15° to the west to be centered on the airport's 341° bearing, extending to 6.8 miles north. Shifting the northern extension provides more appropriate containment for aircraft executing the NEWPORT ONE DEPARTURE (OBSTACLE) RWY 34 departure procedure until reaching the base of the next adjacent controlled airspace and arriving IFR operations below 1,000 feet above the surface when executing the RNAV (GPS) RWY 16 and Very High Frequency Omnidirectional Range (VOR)-A approach procedures.

Furthermore, Newport Municipal Airport's Class E5 airspace is modified to more appropriately contain arriving IFR operations below 1,500 feet above the surface and departing IFR operations until reaching 1,200 feet above the surface at the airport. The northeast portion of the Class E5 airspace is no longer necessary and is removed. The Class E5 airspace to the north is shifted approximately 20° west to more appropriately contain the RNAV (GPS) RWY 16 and Instrument Landing System (ILS) or Localizer (LOC) RWY 16 approach operations when below 1,500 feet above the surface. The Class E5 airspace radius is expanded by one mile to the west to better contain departing IFR operations until reaching 1,200 feet above the surface. Finally, the airspace is extended 2.4 miles south to better contain departing IFR operations until reaching 1,200 feet above the surface and arriving IFR operations when executing the RNAV (GPS) RWY 34 approach procedure.

Lastly, the portion of the Class E5 airspace described as extending upward from 1,200 feet above the surface is removed. Containment within Class E airspace at 1,200 feet or more above the surface is provided by the Bend Class E6 airspace, and duplication is not necessary. Although this was reflected by the proposed amendments to the airspace legal description in the NPRM, it was unintentionally not identified within the preamble discussion.

Lastly, Class E2 and Class E5 airspace should be described using only the airport reference point. As such, any reference to the Newport very high frequency omnidirectional range tactical air navigation (VORTAC) is removed from the airport's legal descriptions.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures,” paragraph B-2.5. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6002 Class E Airspace Areas Designated as Surface Areas.

* * * * *

ANM OR E2 Newport, OR [Amended]

Newport Municipal Airport, OR

(Lat. 44°34′49″ N, long. 124°03′29″ W)

That airspace extending upward from the surface within a 4.6-mile radius of the airport, within 2.8 miles east and 2.6 miles west of the airport's 341° bearing extending from its 4.6-mile radius to 6.8 miles north, and within 3 miles west of the 159° bearing extending from the airport's 4.6-mile radius to 5.4 miles south.

* * * * *

Paragraph 6005 Class E Airspace Areas Extending Upward From 700 Feet or More Above the Surface of the Earth.

* * * * *

ANM OR E5 Newport, OR [Amended]

Newport Municipal Airport, OR

(Lat. 44°34′49″ N, long. 124°03′29″ W)

That airspace extending upward from 700 feet above the surface within a 4.6-mile radius of the airport, within 4.6 miles east and 2.6 miles west of the 341° bearing extending from the airport's 4.6-mile radius to 10.2 miles north, within 1.6 miles east and 2.9 miles west of the 161° bearing extending from the airport's 4.6-mile radius to 7.9 miles south, and within an area beginning at the airport's 187° bearing clockwise to its 318° bearing extending from its 4.6-mile radius to its 6.5-mile radius.

* * * * *

Issued in Des Moines, Washington, on January 26, 2026.
B.G. Chew,
Group Manager, Operations Support Group, Western Service Center.

[FR Doc. 2026-01770 Filed 1-28-26; 8:45 am]

BILLING CODE 4910-13-P